DEPARTMENT OF ENERGY

Federal Energy Regulatory Commission

Combined Notice of Filings

July 22, 2009.

Take notice that the Commission has received the following Natural Gas Pipeline Rate and Refund Report filings:

Docket Numbers: RP09-637-001.

Applicants: Eastern Shore Natural Gas Company.

Description: Eastern Shore Natural Gas Company Fuel Retention Adjustment/Cash-Out Refund.

Filed Date: 07/21/2009.

Accession Number: 20090721-5045.

Comment Date: 5 p.m. Eastern Time on Monday, August 03, 2009.

Docket Numbers: RP09-707-001.

Applicants: White River Hub, LLC.

Description: White River Hub, LLC submits Substitute First Revised Sheet No. 145 to its FERC Gas Tariff, Original Volume No. 1.

Filed Date: 07/21/2009.

Accession Number: 20090721-0243.

Comment Date: 5 p.m. Eastern Time on Monday, August 03, 2009.

Docket Numbers: RP09-708-001.

Applicants: Questar Pipeline Company.

Description: Questar Pipeline Company submits Substitute Thirteenth Revised Sheet No. 99A to its FERC Gas Tariff, First Revised Volume No. 1, to be effective 8/1/09.

Filed Date: 07/21/2009.

Accession Number: 20090721-0244.

Comment Date: 5 p.m. Eastern Time on Monday, August 03, 2009.

Docket Numbers: RP09-709-001.

Applicants: Questar Overthrust Pipeline Company.

Description: Questar Overthrust Pipeline Company submits Substitute First Revised Sheet No. 108 to its FERC Gas Tariff, Second Revised Volume No. 1-A, to be effective 8/1/09.

Filed Date: 07/21/2009.

Accession Number: 20090721-0245.

Comment Date: 5 p.m. Eastern Time on Monday, August 03, 2009.

Docket Numbers: RP09-710-001.

Applicants: Clear Creek Storage Company, LLC.

Description: Clear Creek Storage Company, LLC submits Substitute Sixth Revised Sheet No. 77 to its FERC Gas Tariff, Original Volume No. 1, to be effective 8/1/09.

Filed Date: 07/21/2009.

Accession Number: 20090721-0246.

Comment Date: 5 p.m. Eastern Time on Monday, August 03, 2009.

Docket Numbers: RP09-711-001.

Applicants: Questar Southern Trails Pipeline Company.

Description: Questar Southern Trails Pipeline Company submits Substitute Fourth Revised Sheet No. 101 to its FERC Gas Tariff, Original Volume No. 1, to be effective 8/1/09.

Filed Date: 07/21/2009.

Accession Number: 20090721-0247.

Comment Date: 5 p.m. Eastern Time on Monday, August 03, 2009.

Docket Numbers: RP09-775-001.

Applicants: Dominion Transmission, Inc.

Description: Dominion Transmission, Inc submits revisions to the service agreements originally filed on 6/23/09.

Filed Date: 07/21/2009.

Accession Number: 20090722-0111.

Comment Date: 5 p.m. Eastern Time on Monday, August 03, 2009.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E9-18105 Filed 7-29-09; 8:45 am]

BILLING CODE 6717-01-P